DEPARTMENT OF COMMERCE

Patent and Trademark Office

[Docket No.: PTO-C-2023-0034]

Joint ITA-NIST-USPTO Collaboration Initiative Regarding Standards

AGENCY: United States Patent and Trademark Office, Department of Commerce.

ACTION: Request for comments; extension of comment period.

SUMMARY: The United States Patent and Trademark Office (USPTO) is extending the deadline for written comments announced in the Federal Register Notice titled “Joint ITA-NIST-USPTO Collaboration Initiative Regarding Standards; Notice of Public Listening Session and Request for Comments.” Through this notice, the USPTO is extending the period for public comments until November 6, 2023.

DATES: Written comments must be received on or before November 6, 2023.

FOR FURTHER INFORMATION CONTACT: Mr. Chris Hannon, at 571-272-7385 or Mr. Anthony Quinn, at 202-893-6488. Inquiries can also be sent to SEP_Policy@uspto.gov.

SUPPLEMENTARY INFORMATION: On September 11, 2023, the USPTO published a Federal Register Notice titled “Joint ITA-NIST-USPTO Collaboration Initiative Regarding Standards; Notice of Public Listening Session and Request for Comments” (88 FR 62349), announcing that the USPTO, the International Trade Administration (ITA), and the National Institute for Standards and Technology (NIST) are seeking stakeholder input on the current state of U.S. firm participation in standard setting, and the ability of U.S. industry to readily adopt standards to grow and compete, especially as they relate to the standardization of critical and emerging technologies. The Agencies are now extending the comment submission period until November 6, 2023, to ensure that stakeholders have a sufficient opportunity to submit written comments.

All other information provided in the September 11, 2023, notice remains unchanged. Previously submitted comments do not need to be resubmitted.

Katherine K. Vidal,
Under Secretary of Commerce for Intellectual Property and Director of the United States Patent and Trademark Office.

[FR Doc. 2023-20919 Filed 9-26-23; 8:45 am]

BILLING CODE 3510-16-P